DEPARTMENT OF LABOR

Employment and Training Administration

[TA-W-60,982]

Eaton Corporation—Truck Components, Galesburg, MI; Notice of Termination of Investigation

Pursuant to Section 221 of the Trade Act of 1974, as amended, an investigation was initiated on February 20, 2007 in response to a worker petition filed a company official on behalf of workers at Eaton Corporation, Truck Components, Galesburg, Michigan.

The petitioner has withdrawn the petition. Hence, this investigation is terminated.

Signed at Washington, DC, this 22nd day of February 2007.
Richard Church,
Certifying Officer, Division of Trade Adjustment Assistance.

[FR Doc. E7-4066 Filed 3-7-07; 8:45 am]

BILLING CODE 4510-FN-P